DEPARTMENT OF ENERGY

[Docket No. EERE-2009-BT-BC-0021]

10 CFR Part 460

Appliance Standards and Rulemaking Federal Advisory Committee (ASRAC)—Manufactured Housing Working Group

AGENCY: Office of Energy Efficiency and Renewable Energy, Department of Energy.

ACTION: Notice of open meeting.

SUMMARY: This notice announces an open meeting for the Manufactured Housing Working Group (MH Working Group). The purpose of the working group will be to discuss and, if possible, reach consensus on a proposed rule for the energy efficiency of manufactured homes, as authorized by section 413 of the Energy Independence and Security Act of 2007 (EISA).

DATES: A two-day, open meeting will be held on:

Monday, August 4; 9 a.m.-5 p.m. (EDT) and

Tuesday, August 5; 9 a.m.-5 p.m. (EDT).

Foreign national wishing to participate in the meeting must respond by email to asrac@ee.doe.gov as soon as possible, but no later than Monday, July 28, 2014, to initiate the necessary security screening procedures.

ADDRESSES: U.S. Department of Energy, Forrestal Building, 1000 Independence Avenue SW., Washington, DC 20585, Room 8E-089. Individuals will also have the opportunity to participate by webinar.

Webinar: To register for the webinar and receive call-in information, please register for Monday at https://www1.gotomeeting.com/register/982871169 and for Tuesday at https://www1.gotomeeting.com/register/370801721.

FOR FURTHER INFORMATION CONTACT: Joe Hagerman, Senior Advisor, Building Technologies Office, U.S. Department of Energy (DOE), Office of Energy Efficiency and Renewable Energy, 950 L'Enfant Plaza SW., Washington, DC 20024. Phone: 202-586-4549; Email: asrac@ee.doe.gov.

SUPPLEMENTARY INFORMATION:

Purpose of Meeting

The purpose of the working group will be to discuss and, if possible, reach consensus on a proposed rule for the energy efficiency of manufactured homes, as authorized by section 413 of the Energy Independence and Security Act of 2007 (EISA). Tentative Agenda: (Subject to change):

• Overview of Working Group's Task

• Discussion and formation of a work plan for the MH Working Group to accomplish its objectives.

Public Participation

Members of the public are welcome to observe the business of the meeting and, if time allows, may make oral statements during the specified period for public comment. To attend the meeting and/or to make oral statements regarding any of the items on the agenda, email asrac@ee.doe.gov. In the email, please indicate your name, organization (if appropriate), citizenship, and contact information. Please note that foreign nationals visiting DOE Headquarters are subject to advance security screening procedures. Any foreign national wishing to participate in the meeting should advise ASRAC staff as soon as possible by emailing asrac@ee.doe.gov to initiate the necessary procedures, no later than Monday, July 28, 2014. Anyone attending the meeting will be required to present a government photo identification, such as a passport, driver's license, or government identification. Due to the required security screening upon entry, individuals attending should arrive early to allow for the extra time needed.

Members of the public will be heard in the order in which they request to make a statement at the public meeting. Time allotted per speaker will depend on the number of individuals who wish to speak but will not exceed five minutes. Reasonable provision will be made to include the scheduled oral statements on the agenda. The co-chairs of the Committee will make every effort to hear the views of all interested parties and to facilitate the orderly conduct of business.

Participation in the meeting is not a prerequisite for submission of written comments. ASRAC invites written comments from all interested parties during the course of the negotiations. If you would like to file a written statement with the committee, you may do so either by submitting a hard or electronic copy before or after the meeting. Electronic copy of written statements should be emailed to asrac@ee.doe.gov.

Minutes: All notices, public comments, public meeting transcripts, and supporting documents associated with this working group are included in Docket No. EERE-2009-BT-BC-0021.

Issued in Washington, DC on July 15, 2014.
Kathleen B. Hogan,
Deputy Assistant Secretary for Energy Efficiency, Energy Efficiency and Renewable Energy.

[FR Doc. 2014-17557 Filed 7-24-14; 8:45 am]

BILLING CODE 6450-01-P